FEDERAL DEPOSIT INSURANCE CORPORATION

Sunshine Act Meeting; Cancellation

Pursuant to the provisions of the “Government in the Sunshine Act” (5 U.S.C. 552b), notice is hereby given that the previously announced closed meeting of the Board of Directors of the Federal Deposit Insurance Corporation scheduled to be held at 2 pm on Friday, March 24, 2000, has been Cancelled.

No earlier notice of this cancellation was practicable.

Dated: March 22, 2000.
Federal Deposit Insurance Corporation.
Robert E. Feldman,
Executive Secretary.

[FR Doc. 00-7546 Filed 3-23-00; 10:13 am]

BILLING CODE 6714-01-M